DEPARTMENT OF DEFENSE

Department of the Army; Corps of Engineers

Intent To Prepare a Draft Programmatic Environmental Impact Statement for the Louisiana Coastal Protection and Restoration Project

AGENCY: Department of the Army, U.S. Army Corps of Engineers, DoD.

ACTION: Notice of intent.

SUMMARY: This notice of intent (NOI) is for the Louisiana Coastal Protection and Restoration (LACPR) Project. This notice of intent addresses the coastal area of southern Louisiana from the state boundary of Louisiana and Mississippi at the Pearl River in the east to the state boundary of Louisiana and Texas at the Sabine River in the west as identified in the Coast 2050 coastal Louisiana restoration plan.

ADDRESSES: Scoping meeting comments regarding the draft Programmatic Environmental Impact Statement (DPEIS) for the LACPR may be provided orally or in writing at the scoping meetings; sent via e-mail to LACPR_EIS@mvn02.usace.army.mil; sent via the worldwide Web at http://www.lacpr.usace.army.mil/; or sent via letter postmarked not later than the close of the scoping comment period to the LACPR EIS Environmental Manager, CEMVN-PM-R, P.O. Box 60267, New Orleans, LA 70160-0267. Comments will not be accepted if submitted by facsimile (fax).

FOR FURTHER INFORMATION CONTACT: LACPR EIS Environmental Manager, Bruce Baird, (504) 862-2526.

SUPPLEMENTARY INFORMATION: 1. Background: On August 29, 2005, Hurricane Katrina, a major hurricane (sixth strongest Atlantic basin cyclone on record), made landfall in southeast Louisiana and left in its path the costliest natural disaster recorded in the relatively young history of the United States of America. On September 24, 2005, Hurricane Rita (fourth strongest Atlantic basin cyclone on record), made landfall in southwest Louisiana leaving in its path a trail of severely impacted communities and infrastructure.

Congress has directed the Corps of Engineers, New Orleans District, in close coordination with the State of Louisiana, to begin a six-month endeavor, titled the South Louisiana Comprehensive Coastal Protection and Restoration Report, also referred to as the LACPR Report, to identify, describe and propose a full range of flood control, coastal restoration, and hurricane protection measures for south Louisiana. A preliminary technical report for comprehensive Category 5 protection is due within six months from December 30, 2005, while a final technical report for Category 5 protection is due within 24 months from December 30, 2005. A final PEIS, without a Record of Decision, will be submitted in conjunction with the 24-month final technical report.

Applicable legislation includes Corps of Engineers—Civil Investigations, The Energy and Water Appropriations Act, 2006 (Pub. L. 109-103), November 19, 2005, Section 5009, The Department of Defense Appropriations Act, 2006 (Pub. L. 109-148), December 30, 2005, and Chapter 3, The Department of Defense Appropriations Act, 2006 (Pub. L. 109-148), December 30, 2005, for assessment of Louisiana Coastal Protection and Restoration.

The DPEIS will document the NEPA (National Environmental Policy Act of 1969) process identifying and assessing reasonable alternatives to proposed actions that will avoid or minimize adverse effects of these actions upon the quality of the human environment. Specifically, the DPEIS will analyze the potential direct, indirect, and cumulative impacts of implementing flood control, coastal restoration, and hurricane protection measures for south Louisiana.

2. Proposed Action and Reasonable Alternatives. Four alternatives, including the no-action alternative, have been preliminarily proposed for further evaluation in the six and 24-month technical reports. Those alternatives are as follows: (1) A structural alternative, which is flood protection consisting of a continuous line of earthen or concrete walls, along southern coastal Louisiana connected at various locations, as needed, by floodgates and other devices to provide protection against a storm surge originating from the Gulf of Mexico produced by a catastrophic Category 5 hurricane; (2) a structural alternative with coastal restoration commensurate to the level of structural fortification to provide protection against a storm surge originating from the Gulf of Mexico produced by a catastrophic Category 5 hurricane; (3) and a non-structural alternative consisting of environmental or coastal restoration measures only to provide protection against a storm surge originating from the Gulf of Mexico produced by a Category 5 hurricane. Other non-structural measures such as, raising or moving structures to meet existing or revised flood plain base elevations, would be a part of any proposed action alternative. The no-action alternative would maintain current levels of flooding protection against a major Category 3 hurricane.

3. Scoping Process. The Council on Environmental Quality (CEQ) regulations implementing the NEPA process directs federal agencies that have made a decision to prepare an environmental impact statement to engage in a public scoping process. The scoping process is designed to provide an early and open means of determining the scope of issues (problems, needs, and opportunities) to be identified and addressed in the draft environmental impact assessment. Scoping is the process used to: (a) Identify the affected public and agency concerns; (b) facilitate an efficient EIS preparation process; (c) define the issues and alternatives that will be examined in detail in the EIS; and (d) save time in the overall process by helping to ensure that the draft statements adequately address relevant issues. Scoping is a process, not an event or a meeting. It continues throughout the planning for a draft EIS and may involve meetings, telephone conversations, and/or written comments. Public scoping meetings will be conducted during a two-week scoping meeting comment period. Locations for public scoping meetings are as follows: New Orleans, Thibodaux, Lafayette, and Lake Charles, Louisiana. Dates, times, and physical locations of the public scoping meetings are to be determined. Public scoping meeting comments will be accepted up to seven business days following the final scoping meeting.

4. Request for Scoping Comments. The Corps will conduct scoping meetings to determine the scope of issues to be addressed and for identifying the significant issues related to the DPEIS for the LACPR project. Notices will be mailed to the affected and interested public once the dates and locations of the scoping meetings have been established. The Corps invites scoping input concerning the following scoping focus questions: Question #1: What are the critical natural and human environmental problems and needs that should be addressed in the DPEIS? Question #2: What are the significant resources that should be considered in the DPEIS? Question #3: What are the reasonable restoration alternatives that should be considered in the DPEIS? Interested parties are encouraged to provide their input and recommendations for all significant issues of the study.

Scoping comments will be compiled, analyzed, and utilized in the plan formulation process. A Scoping Report, summarizing the comments, will be made available to all scoping participants and published on the LACPR Web site (http://www.lacpr.usace.army.mil/). Scoping comments will be accepted throughout the scoping comment period.

5. Public Involvement. Scoping is a critical component of the overall public involvement program. An intensive public involvement program will continue throughout the study to solicit input from affected Federal, state, and local agencies, Indian tribes, and other interested parties.

6. Interagency Coordination and Cooperation. Pursuant to section 1501.6 of the NEPA (30 CFR parts 1500-1508), the following agencies have been invited to participate in the study as cooperating agencies on the EIS: Minerals Management Service, National Marine Fisheries Service, Natural Resources Conservation Service, U.S. Environmental Protection Agency, U.S. Fish and Wildlife Service, U.S. Geological Service, Louisiana Department of Environmental Quality, Louisiana Department of Natural Resources, and the Louisiana Department of Wildlife and Fisheries. The U.S. Fish and Wildlife Service will provide a Fish and Wildlife Coordination Act Report. Coordination will be maintained with the U.S. Fish and Wildlife Service and the National Marine Fisheries Service regarding threatened and endangered species under their respective jurisdictional responsibilities. Coordination will be maintained with the National Marine Fisheries Service regarding essential fish habitat. Coordination will be maintained with the Natural Resources Conservation Service regarding prime and unique farmlands. The U.S. Department of Agriculture will be consulted regarding the “Swampbuster” provisions of the Food Security Act. Coordination will be maintained with the U.S. Environmental Protection Agency concerning compliance with Executive Order 12898, “Federal Action to Address Environmental Justice in Minority Populations and Low-Income Populations.” Coordination will be maintained with the Advisory Counsel on Historic Preservation and the State Historic Preservation Officer. The Louisiana Department of Natural Resources will be consulted regarding consistency with the Coastal Zone Management Act. The Louisiana Department of Wildlife and Fisheries will be contacted concerning potential impacts to Natural and Scenic Streams.

7. Availability of DPEIS. It is anticipated that the DPEIS will be available for public review May 2007. A 45-day review period will be provided so that all interested agencies, groups and individuals will have an opportunity to comment on the DPEIS. In addition, public meetings will be held during the review period to receive comments and address questions concerning the DPEIS.

Dated: February 21, 2006.
Richard P. Wagenaar,
Colonel, U.S. Army, District Commander.

[FR Doc. E6-3050 Filed 3-2-06; 8:45 am]

BILLING CODE 3710-84-P